NUCLEAR REGULATORY COMMISSION

[Docket No. 52-021]

Mitsubishi Heavy Industries, Ltd.; Acceptance for Docketing of an Application for Standard Design Certification of the US-APWR

On December 31, 2007, the U.S. Nuclear Regulatory Commission (NRC, the Commission) received a design certification application from Mitsubishi Heavy Industries (MHI), Ltd., dated December 31, 2007, filed pursuant to Section 103 of the Atomic Energy Act and Subpart B, “Standard Design Certification,” of Title 10 of the Code of Federal Regulations (10 CFR) Part 52, al Regulations (10 CFR) Part 52, “Licenses, Certifications, and Approvals for Nuclear Power Plants.” A notice of receipt and availability of this application was previously published in the Federal Register (73 FR 3495) on January 18, 2008.

The NRC staff has determined that MHI has submitted information in accordance with 10 CFR Part 2, “Rules of Practice for Domestic Licensing Proceedings and Issuance of Orders,” and 10 CFR Part 52 that is acceptable for docketing. The docket number established for this application is 52-021.

The NRC staff will perform a detailed technical review of the design certification application. Docketing of the design certification application does not preclude the NRC from requesting additional information from the applicant as the review proceeds, nor does it predict whether the Commission will grant or deny the application. A notice relating to the rulemaking pursuant to 10 CFR 52.51 for design certification, including provisions for participation of the public and other parties, will be published in the future.

The US-APWR design is an approximately 1,700 megawatts electric, four loop, advanced pressurized water reactor (APWR). MHI developed the US-APWR based on technologies for a 1,538 megawatts electric APWR planned for use in Japan. The US-APWR is based on the latest technologies to improve plant efficiency, reduce plant building volume, and provide a 24-month fuel cycle. The US-APWR application includes the entire power generation complex, except those elements and features considered site-specific.

Documents may be examined, and/or copied for a fee, at the NRC's Public Document Room (PDR), located at One White Flint North, Public File Area O1 F21, 11555 Rockville Pike (first floor), Rockville, Maryland 20852, and will be accessible electronically through the Agencywide Documents Access and Management System (ADAMS) Public Electronic Reading Room link at the NRC Web site http://www.nrc.gov/reading-rm/adams.html. Persons who do not have access to ADAMS or who encounter problems in accessing documents located in ADAMS should contact the NRC PDR Reference staff by telephone at 1-800-4209, 301-415-4737, or by e-mail to pdr@nrc.gov. The application is also available at http://www.nrc.gov/reactors/new-licensing/design-cert.html.

Dated at Rockville, Maryland, this 29th day of February 2008.
For the Nuclear Regulatory Commission.
Jeffrey A. Ciocco,
Sr. Project Manager, US-APWR Projects Branch, Division of New Reactor Licensing, Office of New Reactors.

[FR Doc. E8-4718 Filed 3-7-08; 8:45 am]

BILLING CODE 7590-01-P